DEPARTMENT OF HEALTH AND HUMAN SERVICES

National Institutes of Health

National Institute on Minority Health and Health Disparities; Amended Notice of Meeting

Notice is hereby given of a change in the meeting of the National Institute on Minority Health and Health Disparities Special Emphasis Panel, August 28, 2024, 10 a.m. to August 29, 2024, 6 p.m., National Institutes of Health, NIMHD, DEM II, Suite 800, 6707 Democracy Boulevard, Virtual Meeting, Bethesda, MD, 20892 which was published in the Federal Register on July 22, 2024, FR Doc. No. 2024-16018, 89 FR 59124.

This notice is being amended to change the meeting dates from August 28-29, 2024 to August 28, 2024, 10:00 a.m. to 06:00 p.m. The meeting will be held as a virtual meeting and is closed to the public.

Dated: August 23, 2024.
Bruce A. George,
Program Analyst, Office of Federal Advisory Committee Policy.

[FR Doc. 2024-19402 Filed 8-28-24; 8:45 am]

BILLING CODE 4140-01-P